DEPARTMENT OF DEFENSE

Department of the Army, Corps of Engineers

Notice of Intent To Prepare an Environmental Impact Statement and Conduct Scoping Meeting for the Berths 121-131 [Yang Ming] Container Terminal Redevelopment Project at the Port of Los Angeles, City and County of Los Angeles, California (SPL-2013-00810-TS).

AGENCY: U.S. Army Corps of Engineers, DOD.

ACTION: Notice of intent.

SUMMARY: The purpose of this notice is to initiate a 45-day scoping process for preparation of an Enviornmental Impact Statement (EIS) for the Los Angeles Harbor Department (LAHD) Berths 121-131 [Yang Ming] Container Terminal Redevelopment Project.

DATES: Submit comments concerning this notice on or before May 25, 2014. A public scoping meeting will be held on May 8, 2014 at 6:00 p.m. (PST).

ADDRESSES: The scoping meeting location is: Los Angeles Harbor Department, Board of Harbor Commissioners Hearing Room, 425 S. Palos Verdes Street, San Pedro, CA 90731.

Mail written comments concerning this notice to: U.S. Army Corps of Engineers, Los Angeles District, Regulatory Division, Ventura Field Office, ATTN: SPL-2013-00810-TS, 2151 Alessandro Drive, Suite 110, Ventura, CA 93001. Comment letters should include the commenter's physical mailing address, the project title and the Corps file number in the subject line.

FOR FURTHER INFORMATION CONTACT: Theresa Stevens, Ph.D., U.S. Army Corps of Engineers, Los Angeles District, Regulatory Division, Ventura Field Office, ATTN: SPL-2013-00810-TS, 2151 Alessandro Drive, Suite 110, Ventura, CA 93001, (805) 585-2146, theresa.stevens@usace.army.mil.

SUPPLEMENTARY INFORMATION: In accordance with the National Environmental Policy Act (NEPA), the Corps is requiring the preparation of an Environmental Impact Statement (EIS) prior to any permit action. The Corps may ultimately make a determination to permit or deny the proposed project or a modified version of the proposed project. The primary Federal concerns are dredging, dredged material disposal, addition of permanent structures in and over navigable waters of the U.S., and transport of dredged material for the purpose of ocean disposal.

Pursuant to the California Environmental Quality Act (CEQA) the LAHD will serve as Lead Agency in preparing an Environmental Impact Report (EIR) for its consideration of development approvals within its jurisdiction. The Corps and LAHD have agreed to jointly prepare a Draft EIS/EIR to optimize efficiency and avoid duplication. The Draft EIS/EIR is intended to be sufficient in scope to address the Federal, state and local requirements and environmental issues concerning the proposed activities and permit approvals.

Authority: 33 U.S.C. 403; 33 U.S.C. 1344; 33 U.S.C. 1413.

1. Project Site and Background Information. The project site is located in the West Basin area of the Port of Los Angeles. The site is within the Port of Los Angeles Community Plan area in the City and County of Los Angeles, adjacent to the communities of San Pedro and Wilmington, and approximately 20 miles south of downtown Los Angeles. The purpose of the project is to improve marine shipping and maritime commerce to optimize the container-handling efficiency and capacity at Berths 121-131, and to accommodate berthing and servicing of the largest container ships that may call at the Port of Los Angeles. The existing 186-acre terminal is operated by Yang Ming, Inc. under a lease agreement (LAHD Permit No. 787).

2. Proposed Action. The LAHD has proposed to redevelop the existing container terminal in two phases and the following actions require a Department of the Army permit. Phase 1 would take place at Berths 126-129 and would include: Demolition and reconstruction of 1,260 linear feet of concrete wharf and supporting rock dike; 10 new 100-120-foot gantry cranes (this measurement represents the spread of the crane leg supports); dredging of approximately 400,000 cubic yards (cy) of sediment. Phase 2 would take place at Berths 121-126 and would include: Demolition and reconstruction of 1,400 linear feet of concrete wharf and supporting rock dike; 10 new 100-120-foot gantry cranes; cut 3.7 acres of land and backfill 2.1 acres of waters of the United States for wharf realignment and angle point transition; dredging of approximately 500,000 cy of sediment. The depth of the proposed dredging areas would increase from −45 feet to −53 feet mean lower low water (MLLW) with an overdredge allowance of two feet, for a total depth of −55 feet MLLW. Dredged material would be beneficially reused, disposed at the Berths 243-245 confined disposal facility (CDF), or the LA-2 ocean disposal site. Construction activities for Phase 1 are scheduled to begin in 2016, would take approximately 24 months to complete and may be phased to maintain terminal operations during construction. Construction activities for Phase 2 have not been scheduled. Addition or expansion of backland facilities, such as on-dock rail, does not require a Corps permit; however all indirect and cumulative impacts associated with the proposed project will be evaluated in the EIS/EIR in accordance with NEPA.

3. Issues: Potentially significant impacts associated with the proposed project may include: Aesthetics/visual impacts, air quality emissions, biological resource impacts, environmental justice, geologic impacts related to seismicity, hazards and hazardous materials, water quality, noise, traffic and transportation, socioeconomics, and cumulative impacts from past, present and reasonably foreseeable future projects.

4. Alternatives. The Draft EIS/EIR will include a co-equal analysis of several alternatives. Project alternatives will be further developed during this scoping process. Additional alternatives that may be developed during scoping will also be considered in the Draft EIS/EIR.

5. Scoping Process. The Corps and LAHD will jointly conduct a public scoping meeting to receive public comment regarding the appropriate scope and preparation of the Draft EIS/EIR. Participation by Federal, state, and local agencies and other interested organization and persons is encouraged. This meeting will be conducted in English and Spanish.

6. The Draft EIS/EIR is expected to be available for public review and comment in 2015, and a public meeting will be held after its publication.

Dated: March 27, 2014.
David J. Castanon,
Chief, Regulatory Division.

[FR Doc. 2014-08245 Filed 4-10-14; 8:45 am]

BILLING CODE 3720-58-P